DEPARTMENT OF COMMERCE

National Oceanic and Atmospheric Administration

RIN 0648-XA43

Endangered and Threatened Species; Take of Anadromous Fish

AGENCY: National Marine Fisheries Service (NMFS), National Oceanic and Atmospheric Administration (NOAA), Commerce.

ACTION: Issuance of a scientific research permit.

SUMMARY: Notice is hereby given that NMFS has issued Permit 1282 to Stillwater Sciences (Stillwater) in Arcata, CA. Permit 1282 affects threatened species of salmon and steelhead (see SUPPLEMENTARY INFORMATION). Permit 1282 will more effectively manage the resources of the named species and contribute to the support of the species through data assessment and consequent actions associated with data collection.

ADDRESSES: The application, permit, and related documents are available for review by appointment at: Protected Resources Division, NMFS, 777 Sonoma Avenue, Room 315, Santa Rosa, CA 95404 (ph: 707-575-6097, fax: 707-578-3435, e-mail at: Jeffrey.Jahn@noaa.gov).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally threatened Southern Oregon/Northern California Coast coho salmon (Oncorhynchus kisutch), endangered Central California Coast coho salmon (O. kisutch), threatened California Coastal Chinook salmon (O. tshawytscha), endangered Sacramento River winter-run Chinook salmon (O. tshawytscha), threatened Central Valley spring-run Chinook salmon (O. tshawytscha), threatened Northern California steelhead (O. mykiss), threatened Central California Coast steelhead (O. mykiss), threatened California Central Valley steelhead (O. mykiss), threatened South-Central California Coast steelhead (O. mykiss), and endangered Southern California steelhead (O. mykiss).

Permit Issued

A notice of the receipt of an application for a scientific research permit (1282) was published in the Federal Register on January 22, 2007 (72 FR 2658). Permit 1282 was issued to Stillwater on May 1, 2007. Permit 1282 authorizes capture (by boat electrofishing, backpack electrofishing, beach seine, purse seine, rotary screw trap, pipe-trap, fyke-net trap, and trawl), handling, sampling (by collection of scales, fin-clips, or stomach contents), and marking (using fin-clips, passive integrated transponder (PIT) tags, visible implant elastomer (VIE) tags, or acoustic telemetry tags), and release of juvenile Southern Oregon/Northern California Coast coho salmon, Central California Coast coho salmon, California Coastal Chinook salmon, Sacramento River winter-run Chinook salmon, Central Valley spring-run Chinook salmon, Northern California steelhead, Central California Coast steelhead, California Central Valley steelhead, South-Central California Coast steelhead, and Southern California steelhead. Permit 1282 also authorizes capture (by boat electrofishing, backpack electrofishing, or beach seine), handling, and release of adult California Central Valley steelhead.

Permit 1282 is for research to be conducted in the following water bodies, listed by county, all within the State of California: Tillas Slough (Smith River Estuary) and Lake Earl/Lake Tolowa in Del Norte County; Stone Lagoon, Big Lagoon, Humboldt Bay, and Eel River estuary/lagoon in Humboldt County; Ten Mile River estuary/lagoon, Virgin Creek estuary/lagoon, Pudding Creek estuary/lagoon, and numerous ponds in the vicinity of Manchester, California (including Davis Lake, Davis Pond, Hunter's Lagoon, and numerous unnamed water bodies in the lower Garcia River flood plain) in Mendocino County; Gualala River, Salmon Creek estuary/lagoon, and Estero Americano in Sonoma County; Estero de San Antonio, Walker Creek, Lagunitas Creek, and Rodeo Lagoon in Marin County; San Gregorio Creek estuary/lagoon, Pescadero Lagoon (Pescadero Creek/Butano Creek estuary/lagoon), and Arroyo de los Frijoles estuary/lagoon in San Mateo County; Laguna Creek estuary/lagoon, Baldwin Creek estuary/lagoon, Corcoran Lagoon, Aptos Creek estuary/lagoon, and Pajaro River estuary/lagoon in Santa Cruz County; Bennett Slough in Monterey County; Santa Paula Creek in Ventura County; Cow Creek in Shasta County; Battle Creek in Shasta and Tehama counties; Butte Creek in Glenn and Butte counties; Mokelumne River in Sacramento and San Joaquin counties; Sherman Island in Sacramento County; Napa River in Napa County; Tuolumne River in Stanislaus County; and Merced River in Merced County.

Permit 1282 authorizes average unintentional lethal take of juvenile ESA-listed salmonids of approximately 2 percent of ESA-listed salmonids captured. Permit 1282 does not authorize lethal take of adult ESA-listed salmonids or intentional lethal take of ESA-listed salmonids. The purpose of the research is to provide ESA-listed salmonid population, distribution, and habitat assessment data which will: (1) contribute to the general body of scientific knowledge pertaining to ESA-listed salmonids; (2) inform resource managers to further the conservation and recovery of ESA-listed salmonids; and (3) evaluate the effectiveness of past habitat restoration projects and guide future habitat restoration projects to best benefit ESA-listed salmonids. Permit 1282 expires on December 31, 2012.

Dated: May 30, 2007.
Angela Somma
Chief, Endangered Species Division, Office of Protected Resources, National Marine Fisheries Service.

[FR Doc. E7-10948 Filed 6-6-07; 8:45 am]

BILLING CODE 3510-22-S